DEPARTMENT OF AGRICULTURE

Forest Service

Development of Boat Ramp and Associated Structures at Caney Creek

AGENCY: Forest Service, USDA.

ACTION: Notice of Intent to prepare an environmental impact statement.

SUMMARY:

Authority: The Forest Service is publishing this Notice of Intent pursuant to the Council on Environmental Quality implementing regulations of the National Environmental Policy Act at 40 CFR 1501.7.

DATES: Comments concerning the scope of this analysis should be received by October 31, 2003.

Send comments to: Submit written comments to James D. Manner, Daniel Boone National Forest, 2375 KY 801 South, Morehead, KY 40351 or via electronic mail at comments-southern-daniel-boone-morehead@fs.fed.us. Please include the title of the project in the subject line if commenting electronically.

FOR FURTHER INFORMATION CONTACT: Jeffrey Lewis is the Interdisciplinary Team Leader for this proposed action. He can be reached by U.S. mail at the Morehead Ranger District, Daniel Boone National Forest, 2375 KY 801 South, Morehead, KY 40351; by phone at (606) 784-6428; or by e-mail at jefflewis@fs.fed.us.

Lead Agency: USDA Forest Service, Daniel Boone National Forest.

Cooperating Agency: None.

Responsible Official: The District Ranger for the Morehead Ranger District, Daniel Boone National Forest, located at 2375 KY 801 South, Morehead, KY 40351, is the responsible official for this proposed action.

Decision To Be Made: The responsible official will decide whether to approve the proposal, an alternative to the proposal, or no action. A determination will also be made whether the Forest Land and Resource Management Plan will need to be amended.

SUPPLEMENTARY INFORMATION: Need for the Proposal: The boat ramps located on the northern portion of Cave Run Lake experience overcrowding on most weekends over the course of the peak recreation season. This overcrowding causes user conflicts and delays in launching. Secondly, sail boaters comprise 5 percent of the users of the lake. Currently none of the existing ramps on the lake have facilities to accommodate the special needs of this group. Finally, a recreational development that included additional boat ramps, a lodge, and other facilities was proposed for private development when Cave Run Lake was constructed. This development has not been implemented since the lake was impounded. Private interests have cited the expense of providing adequate infrastructure to the area as the major barrier to the development of the site.

Purpose of the Proposal: The proposal addresses all three of the listed needs for the area by developing a boat ramp with facilities designed to better serve sail boaters and to reduce crowding at other ramps on the lake. The location of the ramp would be in the area proposed for development when the lake was constructed. Water, electric and sewer service would be designed and installed to accommodate potential future development.

Scoping Process: Project descriptions were mailed to approximately 70 individuals and groups on September 12, 2003. No public meetings are planned for this project.

Preliminary Issues: The following are preliminary environmental issues related to this proposal:

1. The development of the access road and boat ramp have the potential to alter the hydrology of several stream head wetland seeps in the area potentially causing the seeps to dry up.

2. The additional boat traffic allowed by the parking and launch access may result in overcrowding on the northern portions of the lake causing increased user conflict and reduced recreational satisfaction.

3. The construction of the boat ramp in a previously undeveloped cove of the lake has the potential to change the use patterns of the area potentially increasing user conflict and displacing existing users of the area.

Preliminary Alternatives: The following alternatives to the proposed project are being considered:

1. No development of a boat ramp, access road, and infrastructure.

2. Alteration of existing facilities to accommodate sail boaters and additional parking capacity with no development of infrastructure in the Caney Creek area.

3. Development of infrastructure in the Caney Creek area with no development of additional facilities.

Permits or Licenses Required: None.

Estimated Dates for DEIS and FEIS: The DEIS is expected to be filed with the Environmental Protection Agency and to be available for public review and comment by June 2004. At that time, the Environmental Protection Agency (EPA) will publish a Notice of Availability (NOA) of the DEIS in the Federal Register. The comment period on the DEIS will be a minimum of 45 days from the date the EPA publishes the NOA in the Federal Register.

The Forest Service believes, at this early stage, it is important to give reviewers notice of several court rulings related to public participation in the environment review process. Firstly, reviewers of the draft EIS must structure their participation in the environmental review of the proposal so that it is meaningful and alerts an agency to the reviewer's position and concerns (Vermont Yankee Nuclear Power Corp. v. NRDC, 435 U.S. 519, 553 (1978)). Also, environmental objections that could be raised at the draft EIS stage, but are not raised until after completion of the final EIS, may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this project participate by the close of the scoping comment period, so that substantive comments are made available to the Forest Service at a time when the comments can be meaningfully considered and responded to in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the draft EIS. Reviewers may wish to refer to the Council on Environmental Quality Regulations for implementing the procedural provisions of the National Environmental Policy Act at 40 CFR 1503.3 in addressing these points.

After the comment period ends on the DEIS, the comments will be analyzed, considered, and responded to by the Forest Service in preparing the FEIS. The FEIS is scheduled for completion in August 2004. The responsible official will consider the comments, responses, environmental consequences discussed in the FEIS, and applicable laws, regulations, and policies in making a decision regarding this proposed action.

The responsible official will document the decision and reasons for the decision in a Record of Decision. That decision will be subject to appeal in accordance with 36 CFR part 215.

James D. Manner,
District Ranger, Morehead Ranger District, Daniel Boone National Forest.

[FR Doc. 03-24505 Filed 9-26-03; 8:45 am]

BILLING CODE 3410-11-M